DEPARTMENT OF ENERGY

Federal Energy Regulatory Commission

[Docket No. EL01-78-000]

LG&E Energy Marketing, Inc. Complainant, v. Southern Company Services, Inc. Georgia Transmission Corporation, Respondents; Notice of Complaint

May 15, 2001.

Take notice that on May 14, 2001, LG&E Energy Marketing, Inc. (LEM) tendered for filing a complaint in which LEM petitions the Commission to issue an order directing that the transmission service request of Oglethorpe Power Corporation for power generated by the LG&E Power Monroe LLC generating plant has first rights to the East Social Circle to Winder 230 kV transmission line.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before May 22, 2001. Protests will be considered by the Commission in determining the appropriate action to be taken, but will not serve to make protestants parties to the proceeding. Any person wishing to become a party must file a motion to intervene. Copies of this filing are on file with the Commission and are available for public inspection in the Public Reference Room. This filing also be viewed on the Internet at http://www.ferc.fed.us/online/rims.htm (call 202-208-2222) for assistance. Answers to the complaint shall also be due on or before May 22, 2001. Comments, protests and interventions may be filed electronically via the internet in lieu of paper. See, 18 CFR 385.2001(a)(1)(iii) and the instructions on the Commission's web site at http://www.ferc.fed.us/efi/doorbell.htm.

David P. Boergers,
Secretary.

[FR Doc. 01-12643 Filed 5-18-01; 8:45am]

BILLING CODE 6717-01-M